DEPARTMENT OF VETERANS AFFAIRS

38 CFR Parts 38 and 39

RIN 2900-AR09

Nomenclature Change for Position Title

AGENCY: Department of Veterans Affairs.

ACTION: Correcting amendments.

SUMMARY: On September 15, 2021, the Department of Veterans Affairs (VA) published in the Federal Register a final rule that amended regulations to revise the title of the “Director, Loan Guaranty Service” to “Executive Director, Loan Guaranty Service” to reflect organizational changes. This correction addresses minor technical errors in the published final rule.

DATES: These correcting amendments are effective September 24, 2021 and applicable on or after September 15, 2021.

FOR FURTHER INFORMATION CONTACT: Stephanie Li, Chief of Regulations, Loan Guaranty Service (26), Veterans Benefits Administration, Department of Veterans Affairs, 810 Vermont Avenue NW, Washington, DC 20420, (202) 632-8862 (this is not a toll-free telephone number).

SUPPLEMENTARY INFORMATION: VA is amending its final rule 2900-AR09, Nomenclature Change for Position Title to fix technical errors published on September 15, 2021, in the Federal Register at 86 FR 51274. Specifically, in updating the position title of “Director, Loan Guaranty Service” to “Executive Director, Loan Guaranty Service”, references to “Deputy Director, Loan Guaranty Service” and “Assistant Director, Loan Guaranty Service” were inadvertently updated as well. Therefore, VA is issuing these amendments to correct these errors.

List of Subjects in 38 CFR Part 36

Condominiums, Housing, Individuals with disabilities, Loan programs—housing and community development, Loan programs—Indians, Loan programs—veterans, Manufactured homes, Mortgage insurance, Veterans.

Jeffrey M. Martin,
Assistant Director, Office of Regulation Policy & Management, Office of the Secretary, Department of Veterans Affairs.

For the reasons set forth in the preamble, the VA amends 38 CFR part 36 as follows:

PART 38—PENSIONS, BONUSES, AND VETERAN'S RELIEF

1. The authority citation for part 36 continues to read as follows:

Authority: 38 U.S.C. 501 and 3720.

§ 36.4345 [Amended]

2. Amend § 36.4345 by:

a. In paragraph (b)(1)(v), removing the words “Deputy Executive Director” and adding in their place the words “Deputy Director”; and

b. In paragraph (b)(1)(vi), removing the words “Assistant Executive Director” and adding in their place the words “Assistant Director”.

§ 36.4409 [Amended]

3. Amend § 36.4409, in paragraph (a)(3), by removing the words “Deputy Executive Director” and adding in their place the words “Deputy Director”.

§ 36.4412 [Amended]

4. Amend § 36.4412, in paragraph (i)(1)(iii), by removing the words “Deputy Executive Director” and adding, in their place, the words “Deputy Director”.

[FR Doc. 2021-20735 Filed 9-23-21; 8:45 am]

BILLING CODE 8320-01-P